DEPARTMENT OF HEALTH AND HUMAN SERVICES

National Institutes of Health

National Cancer Institute; Amended Notice of Meeting

Notice is hereby given of a change in the meeting of the National Cancer Institute Clinical Trials and Translational Research Advisory Committee, November 9, 2011, 9 a.m. to November 9, 2011, 4 p.m., National Institutes of Health, Building 31, C-wing, 6th Floor, 31 Center Drive, Conference Room 10, Bethesda, MD 20892 which was published in the Federal Register on August 24, 2011, 76FR52960.

This notice is amended to add the Clinical Trials Network Strategic Planning ad hoc Subcommittee meeting on November 8, 2011 from 7 p.m. to 9 p.m. at the Hyatt Regency Bethesda, One Bethesda Metro Center, 7400 Wisconsin Ave., Bethesda, MD. The meeting is open to the public.

Dated: October 21, 2011.
Jennifer S. Spaeth,
Director, Office of Federal Advisory Committee Policy.

[FR Doc. 2011-27868 Filed 10-26-11; 8:45 am]

BILLING CODE 4140-01-P